DEPARTMENT OF HEALTH AND HUMAN SERVICES

Centers for Disease Control and Prevention

[60 Day-06-0587]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Outcome Evaluation of CDC's Youth Media Campaign: Continuation of Follow-up Survey—Extension-0920-0587—National Center for Chronic Disease Prevention and Health Promotion (NCCHPHP), Centers for Disease Control and Prevention (CDC).

Background and Brief Description

In FY 2001, Congress established the Youth Media Campaign at the CDC. Specifically, the House Appropriations language said: “The Committee believes that, if we are to have a positive impact on the future health of the American population, we must change the behaviors of our children and young adults by reaching them with important health messages.” CDC, working in collaboration with federal partners, continuing to coordinate an effort to implement and evaluate a campaign designed to clearly communicate messages that will help youth develop habits that foster good health over a lifetime. The campaign has been based on principles that have been shown to enhance success, including: Designing messages based on research; testing messages with the intended audiences; involving young people in all aspects of campaign planning and implementation; enlisting the involvement and support of parents and other influencers; refining the messages based on research; and measuring the effect of the campaign on the target audiences.

To measure the effect of the campaign on the target audiences, CDC has conducted an annual survey for parent/tween dyads (Youth Media Campaign's Longitudinal Survey (YMCLS)) that assessed aspects of the knowledge, attitudes, beliefs, and levels of involvement in physical activities of tweens (children ages 9-13) and a parent or guardian. The baseline survey was conducted prior to the launch of the campaign from April 8, 2002, through June 21, 2002. Follow-up surveys were conducted in 2003, 2004, and 2005. The methodology was to use a panel design and to survey approximately 3000 dyads (3120 parents and 3120 tweens) from a nationally representative sample. Additionally, a survey of parent/tween dyads was conducted in six high-dose communities at baseline, 2003, 2004, and for a portion of the sample in 2005 (high-dose communities were those in which an intensive Youth Media Campaign was conducted). The survey was conducted using random digit dialing.

The next steps in the measurement of effects of the campaign were to collect follow-up data one year post baseline survey and two years post baseline survey. The same panel members (minus attrition) of approximately 6000 parent/tween dyads used in the baseline survey—the nationally representative sample and the six high-dose metropolitan areas—were re-contacted to complete a survey that was similar to that used at baseline. Items on campaign awareness were added to the survey to enable segmentation of the respondents by awareness of the campaign. The data collection was with a total of approximately 6000 parent/tween dyads in spring 2003 and 6000 parent/tween dyads in 2004. Due to lower than expected attrition rates, members of the national panel were re-contacted in 2005 to assess the continued impact of the campaign.

Due to the large number of parent/tween dyads in the sample, the proposed data collection seeks to add an observation five years after baseline for a longitudinal data set exploring physical activity behaviors for a cohort of tweens as they mature. There is no other nationally representative data set that provides longitudinal data on physical activity for youth in this age range. The same YMCLS will be used. Participants will be contacted by letter to tell them of our intent to re-contact them. The burden table reflects time for an anticipated 3,120 households (the number that completed the survey in 2002) to read the letter and to be re-screened by telephone. We anticipate 2,000 parent/tween dyads will complete the survey. The telephone survey will be conducted with the same parent/tween dyads as in the national sample in 2003. There are no costs to respondents other than their time to participate in the survey.

Estimated Annualized Burden:

Type of respondent | Form name | Number of respondents | Number of responses per respondent | Average burden per response (in hours) | Response burden (in hours)
Parent | Intro Letter and Screening | 3,120 | 1 | 3/60 | 156
| YMCLS Parent Interview | 2,000 | 1 | 15/60 | 500
Tween | YMCLS Child Interview | 2,000 | 1 | 15/60 | 500
Total |  |  |  |  | 1,156

Dated: November 4, 2005.
Betsey S. Dunaway,
Acting Reports Clearance Officer, Centers for Disease Control and Prevention.

[FR Doc. 05-22440 Filed 11-9-05; 8:45 am]

BILLING CODE 4163-18-P